FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)). If the proposal also involves the acquisition of a nonbanking company, the review also includes whether the acquisition of the nonbanking company complies with the standards in section 4 of the BHC Act (12 U.S.C. 1843), and interested persons may express their views in writing on the standards enumerated in section 4. Unless otherwise noted, nonbanking activities will be conducted throughout the United States.

Comments regarding each of these applications must be received at the Reserve Bank indicated or the offices of the Board of Governors, Ann E. Misback, Secretary of the Board, 20th Street and Constitution Avenue NW, Washington DC 20551-0001, not later than November 5, 2020.

A. Federal Reserve Bank of San Francisco (Sebastian Astrada, Director, Applications) 101 Market Street, San Francisco, California 94105-1579:

1. LendingClub Corporation, San Francisco, California; to become a bank holding company by acquiring voting shares of Radius Bancorp, Inc., and thereby indirectly acquire voting shares of Radius Bank, both of Boston, Massachusetts, upon Radius Bank's conversion from a federal savings bank to a national bank.

In connection with this application, LendingClub Corporation, directly and through its wholly-owned subsidiaries, LendingClub Warehouse I, LLC, LendingClub Warehouse II, LLC, and Consumer Loan Underlying Bond Depositor, LLC, all of San Francisco, California, to engage de novo in extending credit and servicing loans and activities related to extending credit pursuant to § 225.28(b)(1) and (b)(2) of Regulation Y, respectively. In addition, LendingClub Corporation to engage de novo in data processing activities pursuant to § 225.28(b)(14) of Regulation Y.

Board of Governors of the Federal Reserve System, October 1, 2020.
Yao-Chin Chao,
Assistant Secretary of the Board.

[FR Doc. 2020-22092 Filed 10-6-20; 8:45 am]

BILLING CODE 6210-01-P